FEDERAL RESERVE SYSTEM

[Docket No. R-1081]

Privacy Act of 1974; Publication of Notice of Systems of Records and Amendment of Existing Systems of Records

AGENCY: Board of Governors of the Federal Reserve System.

ACTION: Notice; publication of two new systems of records and the amendment of one system of records.

SUMMARY: In accordance with the Privacy Act, the Board of Governors of the Federal Reserve System (Board) is publishing notice of two new systems of records, entitled: “Benefits Records” (BGFRS-29), and “Academic Assistance Program Files” (BGFRS-30); as well as amendments to “Medical Records” (BGFRS-3). We invite public comment on this notice.

DATES: The new systems of records and amendments to the existing system of records will become effective without further notice, on October 10, 2000, unless comments dictate otherwise.

ADDRESSES: Comments, which should refer to Docket No. R-1081, may be mailed to Ms. Jennifer J. Johnson, Secretary, Board of Governors of the Federal Reserve System, 20th Street and Constitution Avenue, NW., Washington, DC 20551 or mailed electronically to regs.comments@federalreserve.gov. Comments addressed to Ms. Johnson also may be delivered to the Board's mail room between 8:45 a.m. and 5:15 p.m. weekdays and to the security control room outside of those hours. The mail room and the security control room are accessible from the Eccles Building courtyard entrance, located on 20th Street between Constitution Avenue and C Street, NW. Comments may be inspected in Room MP-500 between 9 a.m. and 5 p.m.

FOR FURTHER INFORMATION CONTACT: Elaine M. Boutilier, Managing Senior Counsel, Legal Division (202/452-2418), or Chris Fields, Manager, Human Resources Function, Management Division (202/452-3654), Board of Governors of the Federal Reserve System, 20th Street and Constitution Avenue, N.W., Washington, D.C. 20551. For users of the Telecommunications Device for the Deaf (TDD) only, contact Janice Simms at 202/452-4984.

SUPPLEMENTARY INFORMATION: The establishment of the new systems of records and amendments to one existing system of records result from a review of the Board's information practices conducted in accordance with the President's May 14, 1998, memorandum on privacy and information in federal records.

Unlike most Federal government agencies whose personnel files are maintained by the Office of Personnel Management (OPM), the Board maintains its own personnel-related files because the Board has independent statutory authority to hire staff and set the salary and benefit terms for its staff. Accordingly, the personnel-related files of Board employees are not contained in the government-wide systems of records published by OPM. Nevertheless, the Board's personnel-related files are used in much the same manner as those of other federal employees. Accordingly, after reviewing the routine uses for the existing system of records, the Board has determined to adopt many of the routine uses that are used in OPM's government-wide systems of records.

New Systems of Records

The Benefits Records contain information concerning each employee's benefits, such as health insurance, life insurance, and flexible spending accounts. There records were previously part of each employee's General Personnel File, but a review of record-keeping practices indicated that they should be maintained in a separate file. Accordingly, the Board is publishing a new system of records to describe the information maintained in these separate files.

The system of records for the Academic Assistance Program contains records concerning an employee's external and internal training, and any reimbursements made for such training.

Revised System of Records

The revisions to the existing system of records, Medical Records, incorporate information needed as a result of the Board's adoption of the Drug-Free Workplace Plan and revise the routine uses based on OPM's routine uses for the equivalent government-wide system of records.

In accordance with 5 U.S.C. 552a(r), a report of these actions is being filed with the Chair of the House Committee on Government Reform and Oversight, the Chair of the Senate Committee on Governmental Affairs, and the Office of Management and Budget.

BGFRS-29

System name:

Benefits Records.

Security classification:

None.

System location:

Board of Governors of the Federal Reserve System, 20th and Constitution, NW., Washington, DC 20551.

Categories of individuals covered by the system:

Current and former Board employees and their named beneficiaries.

Categories of records in the system:

All forms relating to employee's benefits, records relating to claims filed for benefits, and memoranda relating to that individual's benefits. These benefits include: health insurance, dental plan, life insurance, disability coverage, accident insurance, flexible spending accounts, premium conversion accounts, and thrift plan.

Authority for maintenance of the system:

Sections 10(4) and 11(l) of the Federal Reserve Act (12 U.S.C. 244 and 248(l)).

Purpose(s):

To administer the Board's benefits programs for its employees and assist in personnel management.

Routine uses of records maintained in the system, including categories of users and the purposes of such uses:

The information in the records may be used:

a. To disclose information to the Board's Thrift Plan, the Board's Group Life Insurance administrators, Department of Labor, Department of Veterans Administration, Social Security Administration, Federal Retirement Thrift Investment Board, or a national, State, or local social security type agency, when necessary to adjudicate a claim (filed by or on behalf of the individual) under a retirement, insurance, or health benefit program.

b. To disclose to health insurance carriers that provide a health benefits plan under the Federal Employees Health Benefits Program information that is necessary to verify eligibility for payment of a claim for health benefits.

c. To disclose information, when an individual to whom the record pertains is mentally incompetent or under other legal disability, to any person who is responsible for the care of the individual, to the extent necessary.

d. To disclose pertinent information to the appropriate Federal, State, or local agency responsible for investigating, prosecuting, enforcing, or implementing a statute, rule, regulation, or order, when the Board becomes aware of an indication of a violation or potential violation of civil or criminal law or regulation.

e. To disclose to a Federal agency in the executive, legislative or judicial branch of government, or to a Federal Reserve Bank, in response to its request, or at the initiation of the Board, information in connection with the hiring of an employee, the issuance of a security clearance, the conducting of a security or suitability investigation of an individual, the classifying of jobs, the letting of a contract, the issuance of a license, grant, or other benefits by the requesting agency, or the lawful statutory, administrative, or investigative purpose of the agency to the extent that the information is relevant and necessary to the requesting agency's decision.

f. To provide information to a congressional office from the record of an individual in response to an inquiry from the congressional office made at the request of the individual.

g. To disclose information to another Federal agency, a court, or a party in litigation before a court or in an administrative proceeding being conducted by a Federal agency, when the Board is a party to the judicial or administrative proceeding.

h. To disclose information to the Department of Justice or in a proceeding before a court, adjudicative body, or other administrative body before which the Board is authorized to appear, when:

(1) The Board or any employee of the Board in his or her official capacity; or

(2) Any employee of the Board in his or her individual capacity where the Department of Justice or the Board has agreed to represent the employee; or

(3) The United States (when the Board determines that the litigation is likely to affect the Board) is a party to litigation or has an interest in such litigation, and the use of such records by the Department of Justice or the Board is deemed by the Board to be relevant and necessary to the litigation provided, however, that in each case it has been determined that the disclosure is compatible with the purpose for which the records were collected.

i. By the National Archives and Records Administration in connection with records management inspections and its role as Archivist.

j. To disclose information to the Equal Employment Opportunity Commission when requested in connection with investigations or other functions vested in the Commission.

k. To disclose information to the Merit Systems Protection Board in connection with appeals filed by preference-eligible employees.

l. To disclose information in connection with the investigation and resolution of allegations of unfair labor practices by the Federal Reserve Board Labor Relations Panel when requested.

m. To disclose, in response to a request for discovery or for appearance of a witness, information that is relevant to the subject matter involved in a pending judicial or administrative proceeding.

n. To locate individuals for personnel research or survey response and in producing summary descriptive statistics and analytical studies to support the function for which the records are collected and maintained, or for related work force studies. While published statistics and studies do not contain individual identifiers, in some instances the selection of elements of data included in the study may be structured in such a way as to make the data individually identifiable by inference.

o. To disclose to contractors, grantees or volunteers performing or working on a contract, service, grant, cooperative agreement, or job for the Board.

Disclosure to consumer reporting agencies:

Not applicable.

Policies and practices for storing, retrieving, accessing, retaining, and disposing of records in the system:

Storage:

These records are maintained in file folders in lockable cabinets and in electronic data bases.

Retrievabililty:

These records are indexed by the names of the individuals on whom they are maintained.

Safeguards:

Access to and use of these records are limited to those persons whose official duties require such access.

Retention and disposal:

Records are destroyed 65 years after the employee's separation from the Federal government.

System manager(s) and address:

Associate Director, Human Resources Function, Management Division, Board of Governors of the Federal Reserve System 20th & Constitution, NW, Washington, DC 20551.

Notification procedure:

Inquiries should be sent to the Secretary of the Board, Board of Governors of the Federal Reserve System, 20th and Constitution Avenue, N.W., Washington, DC 20551. The request should contain the individual's name, date of birth, Social Security number, identification number (if known), approximate date of record, and type of position.

Record access procedures:

Same as “Notification procedure” above.

Contesting record procedures:

Same as “Notification procedure” above.

Record source categories:

The employee, the benefit provider, and staff of the Human Resources Function of the Management Division.

Systems exempted from certain provisions of the act:

None.

BGFRS-30

System name:

Academic Assistance Program Files

Security classification:

None.

System location:

Board of Governors of the Federal Reserve System, 20th and Constitution, N.W., Washington, D.C. 20551. The primary files are maintained by the Human Resources Function of the Management Division. Supporting documentation may be maintained in the Division where the employee works or worked.

Categories of individuals covered by the system:

Current and former Board employees.

Categories of records in the system:

Applications for academic assistance for external training; registration forms for internal training; technical training participant lists for courses offered by the Board's Information Technology Division; descriptions of course work by employees; course evaluations for completed course work; reimbursement documentation for textbooks and external training; and a data base that tracks all courses (internal and external) taken by employees.

Authority for maintenance of the system:

Sections 10(4) and 11(l) of the Federal Reserve Act (12 U.S.C. 244 and 248(l)).

Purpose(s):

These records are collected and maintained to assist the Board in its personnel management and in providing training and educational opportunities to its employees.

Routine uses of records maintained in the system, including categories of users and the purposes of such uses:

The information in the records may be used:

a. To disclose pertinent information to the appropriate Federal, State, or local agency responsible for investigating, prosecuting, enforcing, or implementing a statute, rule, regulation, or order, when the Board becomes aware of an indication of a violation or potential violation of civil or criminal law or regulation.

b. To disclose to a Federal agency in the executive, legislative or judicial branch of government, or to a Federal Reserve Bank, in response to its request, or at the initiation of the Board, information in connection with the hiring of an employee, the issuance of a security clearance, the conducting of a security or suitability investigation of an individual, the classifying of jobs, the letting of a contract, the issuance of a license, grant, or other benefits by the requesting agency, or the lawful statutory, administrative, or investigative purpose of the agency to the extent that the information is relevant and necessary to the requesting agency's decision.

c. To provide information to a congressional office from the record of an individual in response to an inquiry from the congressional office made at the request of the individual.

d. To disclose information to another Federal agency, a court, or a party in litigation before a court or in an administrative proceeding being conducted by a Federal agency, when the Board is a party to the judicial or administrative proceeding.

e. To disclose information to the Department of Justice or in a proceeding before a court, adjudicative body, or other administrative body before which the Board is authorized to appear, when:

(1) The Board or any employee of the Board in his or her official capacity; or

(2) Any employee of the Board in his or her individual capacity where the Department of Justice or the Board has agreed to represent the employee; or

(3) The United States (when the Board determines that the litigation is likely to affect the Board) is a party to litigation or has an interest in such litigation, and the use of such records by the Department of Justice or the Board is deemed by the Board to be relevant and necessary to the litigation provided, however, that in each case it has been determined that the disclosure is compatible with the purpose for which the records were collected.

f. By the National Archives and Records Administration in connection with records management inspections and its role as Archivist.

g. To disclose information to the Equal Employment Opportunity Commission when requested in connection with investigations or other functions vested in the Commission.

h. To disclose information to the Merit Systems Protection Board in connection with appeals filed by preference-eligible employees.

i. To disclose information in connection with the investigation and resolution of allegations of unfair labor practices by the Federal Reserve Board Labor Relations Panel when requested.

j. To disclose, in response to a request for discovery or for appearance of a witness, information that is relevant to the subject matter involved in a pending judicial or administrative proceeding.

k. To locate individuals for personnel research or survey response and in producing summary descriptive statistics and analytical studies to support the function for which the records are collected and maintained, or for related work force studies. While published statistics and studies do not contain individual identifiers, in some instances the selection of elements of data included in the study may be structured in such a way as to make the data individually identifiable by inference.

l. To disclose to contractors, grantees or volunteers performing or working on a contract, service, grant, cooperative agreement, or job for the Board.

Disclosure to consumer reporting agencies:

Not applicable.

Policies and practices for storing, retrieving, accessing, retaining, and disposing of records in the system:

Storage:

These records are maintained in file folders in lockable cabinets and in electronic data bases.

Retrievabililty:

These records are indexed by the names of the individuals on whom they are maintained.

Safeguards:

Access to and use of these records are limited to those persons whose official duties require such access.

Retention and disposal:

The technical training participant lists are retained for 2 years, then destroyed. The remaining records are retained for 5 years, then destroyed.

System manager(s) and address:

Associate Director, Human Resources Function, Management Division, Board of Governors of the Federal Reserve System 20th & Constitution, NW, Washington, DC 20551.

Notification procedure:

Inquiries should be sent to the Secretary of the Board, Board of Governors of the Federal Reserve System, 20th and Constitution Avenue, NW., Washington, DC 20551. The request should contain the individual's name, date of birth, Social Security number, identification number (if known), approximate date of record, and type of position.

Record access procedures:

Same as “Notification procedure” above.

Contesting record procedures:

Same as Notification procedure” above.

Record source categories:

The employee, employee's supervisor, technical training participant list compiled by the Board's Division of Information Technology, external course description material.

Systems exempted from certain provisions of the act:

None.

BGFRS-3

System name:

FRB—Medical Records

Security classification:

None.

System location:

Board Physician, Board of Governors of the Federal Reserve System, 20th and Constitution, NW., Washington, DC 20551. Records relating to drug-testing under the Drug-Free Workplace Plan may be retained by a contractor laboratory.

Categories of individuals covered by the system:

Current and former Board employees (including special employees). Applicants who have been medically examined for Board employment.

Categories of records in the system:

This system of records contains information relating to: pre-employment medical examinations of potential employees; periodic medical examinations of employees; treatment and/or advice provided by the Health Unit's staff to an employee; an employee's participation in an occupational health services program; the Board's Drug-Free Workplace Plan; and employees' use of the Board's exercise facilities.

Authority for maintenance of the system:

Executive Order 12564 and 12 U.S.C. 244 and 248(l).

Purpose(s):

These records are collected and maintained to assist the Board in determining an employee's fitness for duty, to assist the Board in providing a safe and healthy working environment, and to comply with E.O. 12564.

Routine uses of records maintained in the system, including categories of users and the purposes of such uses:

With the exception of Routine Use “n,” none of the other Routine Uses are applicable to records relating to drug testing under Executive Order 12564. Further, such records shall be disclosed only to a very limited number of officials within the Board, generally only to the Medical Review Officer, the administrator of the Employee Assistance Program, and the management official empowered to recommend or take adverse action affecting the individual.

In other cases, the information in these records may be used:

a. To disclose information to the Board's Thrift Plan, the Board's Group Life Insurance administrators, Department of Labor, Department of Veterans Administration, Social Security Administration, Federal Retirement Thrift Investment Board, or a national, State, or local social security type agency, when necessary to adjudicate a claim (filed by or on behalf of the individual) under a retirement, insurance, or health benefit program.

b. To disclose information to a Federal, State, or local agency to the extent necessary to comply with laws governing reporting of communicable disease.

c. To disclose to contractors, grantees or volunteers performing or working on a contract, service, grant, cooperative agreement, or job for the Board, where necessary to performance.

d. To disclose information to a Federal agency in the executive, legislative or judicial branch of government, or to a Federal Reserve Bank, in response to its request or at the initiation of the Board, information in connection with the retention of an employee, the issuance of a security clearance, the conducting of a security or suitability investigation of an individual, the classifying of jobs, the letting of a contract, the issuance of a license, grant, or other benefit by the requesting agency, or the lawful, statutory, administrative, or investigative purpose of the agency, to the extent that the information is relevant and necessary to the requesting agency's decision on the matter.

e. To provide information to a congressional office from the record of an individual in response to an inquiry from the congressional office made at the request of the individual.

f. To disclose pertinent information to the appropriate Federal, State, or local agency responsible for investigating, prosecuting, enforcing, or implementing a statute, rule, regulation, or order, when the Board becomes aware of an indication of a violation or potential violation of civil or criminal law or regulation.

g. To disclose information to another Federal agency, to a court, or a party in litigation before a court or in an administrative proceeding being conducted by a Federal agency, when the Board is a party to the judicial or administrative proceeding.

h. To disclose information to the Department of Justice, or in a proceeding before a court, adjudicative body, or other administrative body before which the Board is authorized to appear, when:

(1) The Board or any employee of the Board in his or her official capacity; or

(2) Any employee of the Board in his or her individual capacity where the Department of Justice or the Board has agreed to represent the employee; or

(3) The United States (when the Board determines that the litigation is likely to affect the Board) is a party to litigation or has an interest in such litigation, and the use of such records by the Department of Justice or the Board is deemed by the Board to be relevant and necessary to the litigation provided, however, that in each case it has been determined that the disclosure is compatible with the purpose for which the records were collected.

i. By the National Archives and Records Administration in connection with records management inspections and its role as Archivist.

j. To disclose information to the Equal Employment Opportunity Commission when requested in connection with investigations or other functions vested in the Commission.

k. To disclose information to the Merit Systems Protection Board in connection with appeals filed by preference-eligible employees.

l. To disclose information in connection with the investigation and resolution of allegations of unfair labor practices before the Federal Reserve Board Labor Relations Panel when requested.

m. To disclose, in response to a request for discovery or for appearance of a witness, information that is relevant to the subject matter involved in a pending judicial or administrative proceeding.

n. To disclose the results of a drug test of a Board employee pursuant to an order of a court of competent jurisdiction where required by the U.S. Government to defend against any challenge of any adverse personnel action.

o. To disclose to health insurance carriers that provide a health benefits plan under the Federal Employees Health Benefits Program information that is necessary to verify eligibility for payment of a claim for health benefits.

p. To disclose information, when an individual to whom the record pertains is mentally incompetent or under other legal disability, to any person who is responsible for the care of the individual, to the extent necessary.

q. To disclose to a requesting agency, organization, or individual the home address and other information concerning those individuals who it is reasonably believed might have contracted an illness or been exposed to or suffered from a health hazard while employed in the Federal workforce.

Disclosure to consumer reporting agencies:

Not applicable.

Policies and practices for storing, retrieving, accessing, retaining, and disposing of records in the system:

Storage:

Records are in file folders or in automated media.

Retrievability:

Records are indexed by name, identification number, and/or date of birth.

Safeguards:

Access to and use of these records are limited to those persons whose official duties require such access. Records are stored in lockable metal containers or in automated media which is password protected.

Retention and disposal:

Records are maintained until six years after the employee leaves the Board, at which time they are destroyed, except for correspondence, which is destroyed six months after the employee has left the Board.

System manager(s) and address:

Board Physician, Board of Governors of the Federal Reserve System, 20th & Constitution, NW, Washington, DC 20551.

Notification procedure:

Inquiries should be sent to the Secretary of the Board, Board of Governors of the Federal Reserve System, 20th and Constitution Avenue, NW., Washington, DC 20551. The request should contain the individual's name, date of birth, Social Security number, identification number (if known), approximate date of record, and type of position.

Record access procedures:

Same as “Notification procedure” above, but see the special procedures set forth in the Board's Rules Regarding Access to and Review of Personal Information Under the Privacy Act, 12 CFR 261a.7.

Contesting record procedures:

Same as “Notification procedure” above.

Record source categories:

The individual to whom the record pertains; an employee's physical or mental health care provider or counselor; the contractor administering the Drug-Free Workplace Plan; official records of other federal agencies; Federal Reserve System personnel records.

Systems exempted from certain provisions of the act:

None.

By order of the Board of Governors of the Federal Reserve System, acting through the Secretary of the Board under delegated authority, August 24, 2000.
Robert deV. Frierson,
Associate Secretary of the Board.

[FR Doc. 00-22147 Filed 8-29-00; 8:45 am]

BILLING CODE 6210-01-P